DEPARTMENT OF TRANSPORTATION

Federal Railroad Administration

Programmatic Environmental Impact Statement for the California High Speed Train System

AGENCY: Federal Railroad Administration (FRA), U.S. Department of Transportation (DOT).

ACTION: Notice of intent to prepare an environmental impact statement.

SUMMARY: FRA is issuing this notice to advise the public that FRA will join the California High Speed Rail Authority (Authority) in the preparation of a programmatic environmental impact statement (EIS) and programmatic environmental impact report (EIR) for the California High-Speed Train System. FRA is also issuing this notice to solicit public and agency input into the development of the scope of the EIR/EIS and to advise the public that outreach activities conducted by the Authority and its representatives will be considered in the preparation of the EIR/EIS. Alternatives to be evaluated and analyzed in the Programmatic EIR/EIS include (1) take no action (No-Project or No-Build); (2) construction of a steel-wheel-on-steel-rail or Maglev high-speed train system and stations; and (3) modal alternatives that would include a combination of air, highway, and conventional passenger rail improvements. Possible environmental impacts include displacement of commercial and residential properties; disproportionate impacts to minority and low-income populations; community and neighborhood disruption; increased noise and electro-magnetic interference along rail corridors; traffic impacts associated with stations; effects to historic properties or archaeological sites; impacts to parks and recreation resources; visual quality effects; exposure to seismic and flood hazards; impacts to water resources, wetlands, and sensitive biological species and habitat; land use compatibility impacts; energy use; and impacts to agricultural lands.

FOR FURTHER INFORMATION CONTACT: For further information regarding the programmatic environmental review, please contact: Mr. John Barna, Deputy Director of the California High-Speed Rail Authority, 925 L Street, Suite 1425, Sacramento, CA 95814, (telephone 916-322-0827) or Mr. David Valenstein, Environmental Program Manager, Office of Passenger Programs, Federal Railroad Administration, 1120 Vermont Avenue (Mail Stop 20), Washington, DC 20590, (telephone 202 493-6368).

SUPPLEMENTARY INFORMATION: The Authority has determined that the need for a high-speed train system is directly related to the expected growth in population and resulting increases in intercity travel demand in California over the next twenty years and beyond. As a result of this growth in travel demand, there will be increases in travel delays from the growing congestion on California's highways and at airports. In addition, there will be effects on the economy and quality of life from a transportation system that is less and less reliable as travel demand increases and from deteriorating air quality in and around California's metropolitan areas. The intercity highway system, commercial airports, and conventional passenger rail serving the intercity travel market are currently operating at or near capacity, and will require large public investments for maintenance and expansion in order to meet existing demand and future growth. The proposed high-speed train system would provide a new mode of high-speed intercity travel that would link the major metropolitan areas of the state; interface with international airports, mass transit, and highways; and provide added capacity to meet increases in intercity travel demand in California in a manner sensitive to and protective of California's unique natural resources.

Background

The California High-Speed Rail Commission, established in 1993 to investigate the feasibility of high-speed rail in California, concluded that a high-speed train system is technically, environmentally, and economically feasible and set forth recommendations for the technology, corridors, financing, and operations of a proposed system. Following the Commission's work, a new nine-member California High-Speed Rail Authority (Authority) was established in 1996 and is authorized and directed by statute to undertake the planning for the development of a proposed statewide high-speed train network that is fully coordinated with other public transportation services. The Legislature has granted the Authority the powers necessary to oversee the construction and operation of a statewide high-speed train network once financing is secured. As part of the Authority's efforts to implement a high-speed train system, the Authority adopted a Final Business Plan in June 2000, which reviewed the economic feasibility of a 700-mile-long high-speed train system capable of speeds in excess of 200 miles per hour on a dedicated, fully grade-separated state-of-the-art track. The FRA has responsibility for oversight of the safety of railroad operations, including the safety of any proposed high-speed ground transportation system. For the California proposal, the FRA would need to take certain regulatory actions before any new high-speed train system could operate.

Alternatives

An initial system alternatives evaluation will consider all reasonable system alternatives at a broad level of analysis. This analysis will be followed by a more detailed consideration of the most practical and feasible alternatives in the Programmatic EIR/EIS. The alternatives will include:

No-Build Alternative

The take no action (No-Project or No-Build) alternative is defined to serve as the baseline for comparison of all alternatives. The No-Build Alternative represents the state's transportation system (highway, air, and conventional rail) as it existed in 1999-2000, and as it would exist after completion of programs or projects currently planned for funding and implementation by 2020.

The No-Build Alternative defines the existing and future statewide intercity transportation system based on programmed and funded improvements to the intercity transportation system through 2020, according to the following sources of information:

• State Transportation Improvement Program (STIP)

• Regional Transportation Plans (RTPs) for all modes of travel

• Airport plans

• Intercity passenger rail plans (Amtrak Five- and Twenty-year Plans)

High-Speed Train Alternative

The Authority has defined a 700-mile-long (1,126-kilometer-long) high-speed train system capable of speeds in excess of 200 miles per hour (mph) (320 kilometers per hour [km/h]) on dedicated, fully grade-separated tracks, with state-of-the-art safety, signaling, and automated train control systems. Both steel-wheel-on-steel-rail and magnetic levitation (maglev) train technologies are being considered for the system that would serve the major metropolitan centers of California, extending from Sacramento and the San Francisco Bay Area, through the Central Valley, to Los Angeles and San Diego.

The Authority has identified high-speed train corridors and station locations in their 2000 Business Plan. Within these corridors, there are several potential alignment and station location options that will undergo a screening evaluation prior to detailed environmental and engineering technical studies. In heavily constrained urban areas, alignment options that assume sharing corridors and/or tracks with other passenger rail services will also be considered. The high-speed train corridors are defined as follows:

San Diego To Los Angeles: Mainline service connecting Los Angeles and San Diego would follow either an inland route (along existing transportation corridors) and/or a coastal route (along the existing LOSSAN corridor). The inland route runs from Los Angeles Union Station to Riverside along existing rail corridors and new rights-of-way, continuing to San Diego along the I-15/I-215 Corridor. The coastal route extends from Los Angeles Union Station to San Diego along the existing LOSSAN rail corridor. A link between Los Angeles Union Station and Los Angeles International Airport (LAX) will also be studied.

Los Angeles To Bakersfield: From Los Angeles Union Station to Santa Clarita, existing rail corridors would be followed. There are two corridors crossing the Tehachapi Mountains, the first links Bakersfield to Los Angeles via the I-5 Grapevine Corridor. The second corridor connects Bakersfield and Los Angeles through the Antelope Valley (Palmdale).

Bakersfield To Sacramento: Between Bakersfield and Sacramento, specific options to be evaluated will include minimizing impacts to prime agricultural lands, utilizing existing rail corridors, and serving downtown stations or airports in Bakersfield and Fresno.

Merced To Bay Area: From the vicinity of Merced in the Central Valley, the alignment would follow the Pacheco Pass to Gilroy. From Gilroy to San Jose, the alignment would follow the existing Caltrain corridor. North of San Jose, mainline service would continue to follow the existing Caltrain corridor along the peninsula to San Francisco and/or existing rail corridors in the East Bay to Oakland.

Stations: Station placement would be determined on the basis of ridership potential, system-wide needs, and local planning constraints/conditions. Station placement will be coordinated with local and regional planning agencies, and will provide for seamless connectivity with other modes of travel. Potential station locations to be evaluated in the screening evaluation prior to detailed environmental and engineering technical studies in the Programmatic EIR/EIS include: San Diego, Mira Mesa, Escondido, Temecula, Riverside, Ontario International Airport (ONT), East San Gabriel Valley, University Town Center (La Jolla), Oceanside, Irvine, Anaheim, Norwalk, Los Angeles International Airport (LAX), Los Angeles Union Station, Burbank, Santa Clarita, Palmdale, Bakersfield, Tulare County/Visalia, Fresno, Merced, Modesto, Stockton, Sacramento, Los Banos, Gilroy, San Jose, Redwood City, San Francisco International Airport (SFO), San Francisco, Fremont/Newark, Oakland International Airport (OAK), and Oakland. The potential sites listed represent general locations for planning purposes.

Other Modal Alternatives

There are currently three main options for intercity travel between the major urban areas of San Diego, Los Angeles, the Central Valley, San Jose, Oakland/San Francisco, and Sacramento: vehicles on the highway system, commercial air service, and conventional passenger trains (Amtrak). The FRA and the Authority will evaluate a set of Modal/System Alternatives consisting of expansion of highways, airports, and intercity and commuter rail systems serving the markets identified for the High-Speed Train Alternative at a similar level of investment. The modal alternatives will be defined by assigning the expected incremental travel demand forecasted for the horizon years of 2020 and 2040 to the state's transportation infrastructure, then identifying alternatives for accommodating that travel demand without a high-speed train system.

Scoping and Comments

FRA encourages broad participation in the EIS process during scoping and review of the resulting environmental documents. Comments and suggestions are invited from all interested agencies and the public at large to insure the full range of issues related to the proposed action and all reasonable alternatives are addressed and all significant issues are identified. In particular, FRA is interested in determining whether there are areas of environmental concern where there might be the potential for significant impacts identifiable at a program level. Public agencies with jurisdiction are requested to advise the FRA and the Authority of the applicable permit and environmental review requirements of each agency, and the scope and content of the environmental information that is germane to the agency's statutory responsibilities in connection with the proposed project.

A statewide scoping meeting is scheduled for 1:00—3:30 p.m. on Tuesday, April 24, 2001 in Sacramento, California, at 1416 Ninth Street. Scoping meetings will be advertised locally and are planned for the following major cities along the planned 700-mile-long high-speed train corridor alternatives at the dates and times indicated:

• Oakland on April 25—Oakland City Hall, Council Chambers, 3rd Floor One Frank H. Ogawa Plaza, Oakland 94612, from 11 a.m.-12:30 p.m. and in Hearing Rm. 3 from 6:00-8 p.m.

• Bakersfield on April 30—Kern County Administration Building, 1115 Truxtun Ave., Bakersfield 93301, from 3:00-5 p.m. and from 6:00-8 p.m.

• Los Angeles on May 2—Japanese/American National Museum, 369 East First St., Los Angeles 90012, from 4:00-6 p.m. and from 6:30-9 p.m.

• Fresno on May 7—Fresno City Hall, 2600 Fresno St., Fresno 93721 from 3:00-5 p.m. and from 6:00-8 p.m.

• Riverside on May 8—Riverside Convention Center, La Sierra Rm., 3443 Orange St., Riverside 92501, from 6:30-9 p.m.

• San Diego on May 10—San Diego Association of Governments, Main Boardroom, 401 B St., Suite 800, San Diego 92101, from 2:30-4 p.m. and at the University Town Center, Forum Room, 4545 La Jolla Village Dr., Suite E25, San Diego 92122, from 6:00-8:30 p.m

• Modesto on May 14—Modesto City/County Administration Building, 1010 Tenth St., Modesto 95354, from 3:00-5 p.m. and from 6:00-8 p.m.

• San Jose on May 15—Berger Drive Facility, Auditorium, 1555 Berger Dr., San Jose 95112, from 1:30-3 p.m. and from 6:00-8 p.m.

• Irvine on May 23—Irvine Civic Center, Conference and Training Center, One Civic Center Plaza, Irvine 92623, from 3:00-5 p.m. and from 6:00-8 p.m.

Persons interested in providing comments on the scope of the programmatic EIR/EIS should do so by May 31, 2001. Comments can be sent in writing to Mr. David Valenstein at the FRA address identified above. Comments may also be addressed to Mr. John Barna of the Authority at their address identified above. Information and documents regarding the environmental review process will also be made available through the Authority's Internet site: [http://www.cahighspeedrail.gov/].

Signed on Thursday, April 19, 2001.
Mark E. Yachmetz,
Associate Administrator for Railroad Development.

[FR Doc. 01-10903 Filed 5-1-01; 8:45 am]

BILLING CODE 4910-06-U